DEPARTMENT OF COMMERCE

National Oceanic and Atmospheric Administration

RIN 0648-XX03

Endangered and Threatened Species; Take of Anadromous Fish

AGENCY: National Marine Fisheries Service (NMFS), National Oceanic and Atmospheric Administration, Commerce.

ACTION: Notice of receipt and request for comments.

SUMMARY: Notice is hereby given that NMFS has received an application from the Nisqually Indian Tribe for a direct take permit pursuant to the Endangered Species Act of 1973, as amended (ESA). The duration of the proposed permit is five years. This document serves to notify the public of the availability for comment of the permit application. All comments received will become part of the public record and will be available for review pursuant to the ESA.

DATES: Written comments on the applications must be received at the appropriate address or fax number (see ADDRESSES) no later than 5 p.m. Pacific time on July 22, 2010.

ADDRESSES: Written comments on the application should be sent to Tim Tynan, National Marine Fisheries Services, Salmon Recovery Division, 510 Desmond Dr., Suite 103, Lacey, WA 98503. Comments may also be submitted by e-mail to: NisquallyWeir.nwr@noaa.gov. Include in the subject line of the e-mail comment the following identifier: Comments on Nisqually weir. Comments may also be sent via facsimile (fax) to (360) 753-9517. Requests for copies of the permit application should be directed to the National Marine Fisheries Services, Salmon Recovery Division, 1201 NE Lloyd Boulevard, Suite 1100, Portland, OR 97232. The document is also available on the Internet at http://www.nwr.noaa.gov. Comments received will also be available for public inspection, by appointment, during normal business hours by calling (503) 230-5409.

FOR FURTHER INFORMATION CONTACT: Tim Tynan at (360) 753-9579 or e-mail: tim.tynan@noaa.gov.

SUPPLEMENTARY INFORMATION: This notice is relevant to the following species and evolutionarily significant units (ESUs) or distinct population segments (DPSs):

Chinook salmon (Oncorhynchus tshawytscha): threatened, Puget Sound

Steelhead (Oncorhynchus mykiss): threatened, Puget Sound

Background

Section 9 of the ESA and Federal regulations prohibit the “taking” of a species listed as endangered or threatened. The term “take” is defined under the ESA to mean harass, harm, pursue, hunt, shoot, wound, kill, trap, capture, or collect, or to attempt to engage in any such conduct. NMFS may issue permits to take listed species for any act otherwise prohibited by section 9 for scientific purposes or to enhance the propagation or survival of the affected species, under section 10(a)(1)(A) of the ESA. NMFS regulations governing permits for threatened and endangered species are promulgated at 50 CFR 222.307.

In an application package received on April 20, 2010, the Nisqually Indian Tribe (Tribe) submitted an application to NMFS for a section 10(a)(1)(A) permit (permit number 15522). The Tribe proposes to install a low-impact floating weir on the Nisqually River, a tributary to Puget Sound in Washington State. The weir is intended for monitoring and research on adult Chinook salmon. The project has three objectives: (1) To complement existing adult salmonid monitoring efforts in the Nisqually River in developing accurate and precise estimates of total abundance, (2) to promote recovery of the Nisqually River fall Chinook salmon population through removal of escaping hatchery-origin Chinook salmon adults to increase productivity and intra-population diversity and promote local adaptation, and (3) use Chinook salmon demographic, biological, and genetic data collected through the weir operation to evaluate the effects of hatchery-origin Chinook salmon removal on natural Chinook salmon productivity and develop an adaptive management-based terminal area management plan for the species.

This notice is provided pursuant to section 10(c) of the ESA. NMFS will evaluate the application, associated documents, and comments submitted thereon to determine whether the application meets the requirements of section 10(a)(1)(A) of the ESA. If it is determined that the requirements are met, a permit will be issued to the Tribe for the purpose of installing the weir and carrying out the research and enhancement program. NMFS will publish a record of its final action in the Federal Register.

Dated: June 16, 2010.
Angela Somma,
Chief, Endangered Species Division, Office of Protected Resources, National Marine Fisheries Service.

[FR Doc. 2010-15074 Filed 6-21-10; 8:45 am]

BILLING CODE 3510-22-S